DEPARTMENT OF HEALTH AND HUMAN SERVICES

Substance Abuse and Mental Health Services Administration

Fiscal Year (FY) 2013 Funding Opportunity

AGENCY: Substance Abuse and Mental Health Services Administration, HHS.

ACTION: Notice of intent to award a Single Source Grant to Link2Health Solutions, Inc.

SUMMARY: This notice is to inform the public that the Substance Abuse and Mental Health Services Administration (SAMHSA) intends to award approximately $2,100,000 (total costs) for the HHS Programs for Disaster Relief Appropriations Act—Non Construction—SAMHSA Disaster Distress Helpline (DDH—Hurricane Sandy) for up to two years to Link2Health Solutions, Inc., the current grantee for the National Suicide Prevention Lifeline. This is not a formal request for applications. Assistance will be provided only to Link2Health Solutions, Inc. based on the receipt of a satisfactory application that is approved by an objective review group.

Funding Opportunity Title: SM-13-011.

Catalogue of Federal Domestic Assistance (CFDA) No.: 93.095.

Authority: The Disaster Relief Appropriations Act of 2013 (Pub. L. 113-2).

Justification: Only an application from Link2Health Solutions will be considered for funding under this announcement. Two-year funding has become available to implement a Disaster Distress Helpline to respond to urgent and emerging behavioral health needs for states directly affected by Hurricane Sandy. It is considered most cost-effective and efficient to award these funds to the existing grantee for the National Suicide Prevention Lifeline and to build on the existing capacity and infrastructure within its network of crisis centers.

Link2Health Solutions is in the unique position to carry out the activities of this grant announcement because it is the current recipient of SAMHSA's cooperative agreement to manage the National Suicide Prevention Lifeline. As such, Link2Health Solutions has been maintaining the network communications system and has an existing relationship with the networked crisis centers.

The purpose of this funding is for the implementation of the Disaster Distress Helpline—Hurricane Sandy, which provides access to trained crisis support professionals, 24 hours a day, 7 days a week (24/7), in response to urgent and emerging behavioral health needs for the areas in Connecticut, Delaware, Maryland, Massachusetts, New Hampshire, New Jersey, New York, Ohio, Pennsylvania, Rhode Island, Virginia, West Virginia, and the District of Columbia, that were directly affected by Hurricane Sandy. The DDH—Hurricane Sandy will utilize one contracted crisis center, from the Suicide Prevention Lifeline network, in the impacted region. Additionally, one back-up center will be funded to support the DDH—Hurricane Sandy.

Contact: Cathy Friedman, Substance Abuse and Mental Health Services Administration, 1 Choke Cherry Road, Room 8-1097, Rockville, MD 20857; telephone: (240) 276-2316; Email: Cathy.Friedman@samhsa.hhs.gov.

Cathy J. Friedman,
Public Health Analyst, SAMHSA.

[FR Doc. 2013-24611 Filed 10-21-13; 8:45 am]

BILLING CODE 4162-20-P